DEPARTMENT OF HEALTH AND HUMAN SERVICES

Office of Inspector General

Program Exclusions: October 2003

AGENCY: Office of Inspector General, HHS.

ACTION: Notice of program exclusions.

During the month of October 2003, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Office of Investigation Office of Inspector General—DHHS Case Investigation Management System for Press Release From 10/01/2003-10/31/2003
Subject name | Address | Effective date
PROGRAM-RELATED CONVICTIONS
ANDERSON, WALTER | TERRE HAUTE, IN | 11/20/2003
ANDERSON, WALTER | LOMA LINDA, CA | 11/20/2003
ANTONIAN, VICKI | FRESNO, CA | 11/20/2003
BAJWA, AHSAN | FRESNO, CA | 11/20/2003
BLAU, SEYMOUR | JERSEY CITY, NJ | 11/20/2003
BRAVO, LAZARO | MIAMI, FL | 11/20/2003
BROWN-CANTY, JOANN | CLOVER, SC | 11/20/2003
CASTILLO, JOSE | HOLLISTER, CA | 11/20/2003
COATES, DEBRA | FORT WORTH, TX | 11/20/2003
DAVIS, TAMIKA | CHARLESTON, MS | 11/20/2003
DOYLE, BRIAN | ATLANTA, GA | 11/20/2003
FRENCH, MARGARET | LYNDONVILLE, NY | 11/20/2003
FULTZ, CHERRY | UTICA, MS | 11/20/2003
GUOZALIAN, MANOUK | LONG BEACH, CA | 11/20/2003
GUPTA, RAJENDRA | OTISVILLE, NY | 11/20/2003
MARTINEZ, MICHAEL | ALBUQUERQUE, NM | 11/20/2003
MITCHAM, KIMBERLY | WOODVILLE, TX | 11/20/2003
OSSOM, CHRISTINA | TAHLEQUAH, OK | 11/20/2003
RAMOS, AMADO | THREE RIVERS, TX | 11/20/2003
RODRIGUEZ, DENNIS | BRANDON, FL | 11/20/2003
SAAKYAN, KARAPET | LONG BEACH, CA | 11/20/2003
SAUCEDA, THOMAS | HOUSTON, TX | 11/20/2003
SHEIKH, ASIF | CAMARILLO, CA | 11/20/2003
SHEIKH, NAFEESA | NUTLEY, NJ | 11/20/2003
STEELY, RENEE | SPRINGHILL, FL | 11/20/2003
TITIZYAN, OGANES | LONG BEACH, CA | 11/20/2003
VILLAMIZAR, CARLOS | ADELANTO, CA | 11/20/2003
VISALLI, CHARLES | MIAMI, FL | 11/20/2003
W & M HEALTHCARE, INC | ELKHART, IN | 11/20/2003
FELONY CONVICTION FOR HEALTH CARE FRAUD
EGGLESTON, ADELBERT | STOCKTON, CA | 11/20/2003
ERLIKH, RUSLAN | BROOKLYN, NY | 11/20/2003
FONTANELLA, DANIEL | TOTOWA, NJ | 11/20/2003
HATTER, RONALD | ASHEVILLE, NC | 11/20/2003
NAZAROVA, SOFIYA | BROOKLYN, NY | 11/20/2003
RISE, SCOTT | WAUWATOSA, WI | 11/20/2003
SCHULTZ, JANET | SUN CITY, AZ | 11/20/2003
SPANO, ANTHONY | HILLSDALE, NJ | 11/20/2003
SPEARS, TAMMY | OSBURN, ID | 11/20/2003
VALLE, JULIO | MIAMI, FL | 11/20/2003
FELONY CONTROL SUBSTANCE CONVICTION
BASHAW, ROBERT | MADISON, WI | 11/20/2003
HEINZMAN, KIMBERLY | LONGVIEW, WA | 11/20/2003
MCCOLLISTER, RANDALL | ASHLAND, KY | 11/20/2003
MULLINS, PATRICIA | DAYTON, OH | 11/20/2003
NAVARRO, JOSE | MIAMI, FL | 11/20/2003
SOUTH, MELODY | PINEY FLATS, TN | 11/20/2003
PATIENT ABUSE/NEGLECT CONVICTIONS
BETTS, TOREY | BELDEN, MS | 11/20/2003
BEVERLEIGH, HOWARD | SAN JOSE, CA | 11/20/2003
HEDGEMAN, TIMMY | DELHI, LA | 11/20/2003
LOCKWOOD, ROBERT | MOXEE, WA | 11/20/2003
PANGALILA, TOMMY | EVERETT, WA | 11/20/2003
RAMMACHER, JOHN | HAMBURG, NY | 11/20/2003
TADEO, SHARMINA | VALLEJO, CA | 11/20/2003
WASHINGTON, SONJA | SOUTH BAY, FL | 11/20/2003
WHITE, DAWNESE | JACKSON, MS | 11/20/2003
CONVICTION FOR HEALTH CARE FRAUD
PEREZ, MARIA DEL CARMEN | ORLANDO, FL | 11/20/2003
LICENSE REVOCATION/SUSPENSION/SURRENDER
ANDERSON, RODNEY | SHREVEPORT, LA | 11/20/2003
AQUINO, ROMEO | TUCSON, AZ | 11/20/2003
AUSTIN, BERNICE | ST FRANCISVILLE, LA | 11/20/2003
BARNES, MELANIE | WALLACE, NC | 11/20/2003
BARNES, STEVEN | HOUSTON, TX | 11/20/2003
BARNHART, SHARON | VICTORVILLE, CA | 11/20/2003
BARRY, CAROLE | MESA, AZ | 11/20/2003
BOSLOUGH, MERRY | BRIGHTON, CO | 11/20/2003
BRIGANCE, TROY | BALTIMORE, MD | 11/20/2003
BRIGGS, WILLIAM | WALLA WALLA, WA | 11/20/2003
BROMBY, SHERROLYN | APPLE VALLEY, CA | 11/20/2003
BROWN, JANET | TEXAS CITY, TX | 11/20/2003
BRUNJES, SHANNON | ALTADENA, CA | 11/20/2003
CHAPMAN, EDWARD | NEWTON LOWER FALLS, MA | 11/20/2003
CHENNAULT, ELIZABETH | AUSTIN, TX | 11/20/2003
CISCO, BONNIE | BRIDGEPORT, AL | 11/20/2003
COOPER, RICHARD | LAUDERDALE BY THE SEA, FL | 11/20/2003
COX, LISA | CHICKASHA, OK | 11/20/2003
DANZEY, DEBRA | MONTGOMERY, AL | 11/20/2003
DAVIS, SHERRY | BESSEMER, AL | 11/20/2003
DAWSON, TAMMY | TUSCUMBIA, AL | 11/20/2003
DICKERSON, SHIRLEY | SHAWSVILLE, VA | 11/20/2003
DIRE, PATRICIA | PHOENIX, AZ | 11/20/2003
DOWNS, JILL | COLUMBUS, IN | 11/20/2003
DUFFEY, ERVIN | BLOOMINGTON, CA | 11/20/2003
ELMORE, PENNY | AMARILLO, TX | 11/20/2003
ETER, MAHER | SUN CITY CENTER, FL | 11/20/2003
FARRAR, CLAUDIA | NORTHPORT, AL | 11/20/2003
FISH, TRACEY | FARMINGDALE, ME | 11/20/2003
FORNCROOK, DONALD | OAKLAND, FL | 11/20/2003
FRIEDMAN, SHELLEY | SARASOTA, FL | 11/20/2003
GAINES, NEDA | ROGERS, AR | 11/20/2003
GASS, TRACEY | AMARILLO, TX | 11/20/2003
GODSIL, CATHERINE | GALESBURG, IL | 11/20/2003
GREEN, MARILYN | GALESBURG, IL | 11/20/2003
GRIFFITH, KAREN | OPELIKA, AL | 11/20/2003
HABERSHAM, BEVERLY | FAIRFIELD, CA | 11/20/2003
HALL, BEVERLY | BIG STONE GAP, VA | 11/20/2003
HAYES, MARGARET | MOBILE, AL | 11/20/2003
HENDL, CHARLENE | LEICESTER, NC | 11/20/2003
HEROLD, CARLA | WASHOUGAL, WA | 11/20/2003
HERRMANN, NANCY | TULSA, OK | 11/20/2003
HESS, NANCY | EVERSON, WA | 11/20/2003
HIETT, JAMES | AVON, IL | 11/20/2003
HILL, CANDANCE | PHOENIX, AZ | 11/20/2003
HILL, JAMES | NORMAN, OK | 11/20/2003
HUIE, ELIZABETH | ROTON, TX | 11/20/2003
IRLAND, DEBBIE | COLLEGE PLACE, WA | 11/20/2003
JENUSKA, NANCY | NIANTIC, CT | 11/20/2003
JOHNSON, DEBRA | ST GABRIEL, LA | 11/20/2003
JOSEY, MICHELLE | KANNAPOLIS, NC | 11/20/2003
KELLY, TONYA N | MIAMI, FL | 11/20/2003
KNAPP, DIANNE | TIOGA, LA | 11/20/2003
KOOS, DAVID | SURPRISE, AZ | 11/20/2003
LANGAN, PATRICK | MUNHALL, PA | 11/20/2003
LIVINGSTON NAIL, AMY | SKIATOOK, OK | 11/20/2003
MATTESON, JENNIFER | MOUNT VERNON, WA | 11/20/2003
MCENTURFF, CARLA | GRAND SALINE, TX | 11/20/2003
MCFERRIN, THOMAS | AMITE, LA | 11/20/2003
MILLER, THOMAS | KILLINGLY, CT | 11/20/2003
MINTZER, PAULETTE | LEWISBURG, PA | 11/20/2003
MOOSE, JAMES | CHESAPEAKE, VA | 11/20/2003
NORMAN, VERSARAY | CHESAPEAKE, VA | 11/20/2003
O'NEAL, SYLVIA | VALDOSTA, GA | 11/20/2003
PENDERGRASS, CHARLES | PENSACOLA, FL | 11/20/2003
PHILLIPS, SCOTT | PONTE VEDRA BEACH, FL | 11/20/2003
PLUMLEY, PEGGY | MATTHEWS, NC | 11/20/2003
PRATER, LAREE | LUBBOCK, TX | 11/20/2003
PULLIAM, DEBORAH | PHOENIX, AZ | 11/20/2003
QUEREQUINCIA, GERMA | OAKVIEW, CA | 11/20/2003
RAY, DENISE | RAYNE, LA | 11/20/2003
REATHERFORD, TRACY | DECATUR, IL | 11/20/2003
RIEFFEL, DONALD | TUCSON, AZ | 11/20/2003
RIVERA, DANIEL | AUSTIN, TX | 11/20/2003
ROBERTS, AMBER | JASPER, AL | 11/20/2003
ROGERS, VALERIE | SOLDOTNA, AK | 11/20/2003
ROW, BRENDA | SNYDER, TX | 11/20/2003
RUJA, RICHARD | NAPA, CA | 11/22/2003
RYAN, JESSIE | SPOKANE, WA | 11/20/2003
SARGENT, SHANNON | N HARTLAND, VT | 11/20/2003
TELFORD, WENDELL | YUMA, AZ | 11/20/2003
TELLEZ, LORI | TUCSON, AZ | 11/20/2003
THOMAS, JAMES | TROY, AL | 11/20/2003
THOUVENELLE, REBECCA | WICHITA, KS | 11/20/2003
TIERNEY, GARY | BOCA RATON, FL | 11/20/2003
TROUP, DARRIN | AUGUSTA, GA | 11/20/2003
TRUETT, STEPHANIE | GADSDEN, AL | 11/20/2003
TUFFY, LIAM | BOSTON, MA | 11/20/2003
VALLIERIE, STACIE | GASTONIA, NC | 11/20/2003
VODOSIA, BRANDY | SUMITON, AL | 11/20/2003
WASHINGTON, QUINTINA | LOS ANGELES, CA | 11/20/2003
FEDERAL/STATE EXCLUSION/SUSPENSION
ESMAIL, ZULFIKAR | EVANSTON, IL | 11/20/2003
FRAUD/KICKBACKS
STRUB, DANIEL | POWAY, CA | 7/23/2003
OWNED/CONTROLLED BY CONVICTED ENTITIES
SMILES R US DENTAL GROUP, INC | MIAMI, FL | 11/20/2003
TREATMENT RESOURCES II, INC | EGLIN AFB, FL | 11/20/2003
DEFAULT ON HEAL LOAN
BURNETTE, DAVID | FORREST CITY, AR | 8/22/2003
GOODWIN, MARK | TULSA, OK | 10/7/2003
QUIGLEY, MICHAEL | HARRISBURG, PA | 11/20/2003
THOMLINSON, ALISON | N MIAMI BEACH, FL | 10/9/2003

Dated: November 4, 2003.
Kathleen Pettit,
Acting Director, , Exclusions Staff, Office of Inspector General.

[FR Doc. 03-29820 Filed 11-28-03; 8:45 am]

BILLING CODE 4150-04-P